DEPARTMENT OF HOMELAND SECURITY

Federal Emergency Management Agency

[Docket ID: FEMA-2016-0023; OMB No. 1660-0125]

Agency Information Collection Activities: Submission for OMB Review; Comment Request; FEMA Preparedness Grants: Homeland Security Grant Program (HSGP)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before January 11, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection previously published in the Federal Register on September 26, 2016 at 81 FR 66051 with a 60 day public comment period. No comments were received. The purpose of this notice is to notify the public that FEMA will submit the information collection abstracted below to the Office of Management and Budget for review and clearance.

Collection of Information

Title: FEMA Preparedness Grants: Homeland Security Grant Program (HSGP).

Type of information collection: Revision of a currently approved information collection.

OMB Number: 1660-0125.

Form Titles and Numbers: FEMA Form 089-1, HSGP Investment Justification (SHSP and UASI); FEMA Form 089-16, OPSG Operations Order Report; FEMA Form 089-20, OPSG Inventory of Operation Orders; FEMA Form 089-0-27, Operation Stonegarden Daily Activity Report (DAR).

Abstract: The HSGP is an important tool among a comprehensive set of measures to help strengthen the Nation against risks associated with potential terrorist attacks. DHS/FEMA uses the information to evaluate applicants' familiarity with the national preparedness architecture and identify how elements of this architecture have been incorporated into regional/State/local planning, operations, and investments.

The HSGP is a primary funding mechanism for building and sustaining national preparedness capabilities. The HSGP is comprised of three separate grant programs: The SHSP, the UASI, and OPSG. Together, these grants fund a range of preparedness activities, including planning, organization, equipment purchase, training, exercises, and management and administration costs. The OPSG will begin to utilize the Office of Management and Budget's web-based portal MAX.GOV, at https://www.MAX.GOV/, for operational management of the grant program. The HSGP now requires applicants to submit the SAFECOM Compliance Letter, which has been added to this collection. The compliance letter certifies that the applicant will comply with SAFECOM Guidance when implementing interoperable communications projects. The letter will be attached in the Non-Disaster Grants Management System as part of the HSGP application.

Affected Public: State, Local or Tribal Government.

Estimated Number of Respondents: 664.

Estimated Total Annual Burden Hours: 269,579 hours.

Estimated Cost: The estimated annual cost to respondents for the hour burden is $16,587,196. There are no annual costs to respondents' operations and maintenance costs for technical services. There are no annual start-up or capital costs. The cost to the Federal Government is $2,022,270.

Dated: December 7, 2016.
Richard W. Mattison,
Records Management Program Chief, Mission Support, Federal Emergency Management Agency, Department of Homeland Security.

[FR Doc. 2016-29729 Filed 12-9-16; 8:45 am]

BILLING CODE 9111-46-P